DEPARTMENT OF TRANSPORTATION

Federal Aviation Administration

Notice of Opportunity for Public Comment on Surplus Property Release at the Huntsville Executive Airport Tom Sharp, Jr. Field, Huntsville, Alabama

AGENCY: Federal Aviation Administration (FAA), DOT.

ACTION: Notice of intent to rule on land release request.

SUMMARY: The FAA is considering a request from the Madison County Executive Airport Authority to waive the requirement that 3.19± acres of airport property located at the Huntsville Executive Airport Tom Sharp, Jr. Field in Huntsville, Alabama, be used for aeronautical purposes.

DATES: Comments must be received on or before May 3, 2017.

ADDRESSES: Comments on this notice may be mailed or delivered in triplicate to the FAA at the following address: Jackson Airports District Office, Attn: Wesley E. Mittlesteadt, Program Manager, 100 West Cross Street, Suite B, Jackson, MS 39208-2307.

In addition, one copy of any comments submitted to the FAA must be mailed or delivered to Tom Sharp, Jr., Chairman, Madison County Executive Airport Authority at the following address: 3403 Governors Drive, Huntsville, AL 35805.

FOR FURTHER INFORMATION CONTACT: Wesley E. Mittlesteadt, Program Manager, Jackson Airports District Office, 100 West Cross Street, Suite B, Jackson, MS 39208-2307, (601) 664-9884. The land release request may be reviewed in person at this same location.

SUPPLEMENTARY INFORMATION: The FAA is reviewing a request by Madison County Executive Airport Authority to release 3.19± acres of airport property at the Huntsville Executive Airport Tom Sharp, Jr. Field (MDQ). The property will be purchased by Donna Meyer and Ray Meyer, Jr. for residential purposes. The property is adjacent to residential property on southeast quadrant of airport property just off Meridianville Bottom Road. The net proceeds from the sale of this property will be used for eligible airport improvement projects for general aviation facilities at the Huntsville Executive Airport Tom Sharp, Jr. Field.

Any person may inspect the request in person at the FAA office listed above under FOR FURTHER INFORMATION CONTACT.

In addition, any person may, upon request, inspect the request, notice and other documents germane to the request in person at the Huntsville Executive Airport Tom Sharp, Jr. Field, (MDQ).

Issued in Jackson, Mississippi on March 27, 2017.
Rans D. Black,
Manager, Jackson Airports District Office, Southern Region.

[FR Doc. 2017-06505 Filed 3-31-17; 8:45 am]

BILLING CODE 4910-13-P